ENVIRONMENTAL PROTECTION AGENCY

[FRL-6950-1]

Reeves Southeastern Superfund Site; Notice of Proposed Settlement

AGENCY: Environmental Protection Agency.

ACTION: Notice; request for public comment.

SUMMARY: Under the Comprehensive Environmental Response, Compensation, and Liability Act, as amended (“CERCLA”), the Environmental Protection Agency (“EPA”) proposes to enter into a Prospective Purchaser Agreement (“PPA”) regarding a portion of the Reeves Southeastern Superfund Site in Tampa, Hillsborough County, Florida. EPA proposes to enter into the PPA with Master-Halco, Inc. (MH). The PPA obligates MH to fully cooperate with any response actions EPA may take on the property. Further, the PPA provides MH with a covenant not to sue from the United States for Existing Contamination on the property. The covenant is conditioned upon MH's fulfilling its obligations under the PPA. EPA will consider comments on the proposed PPA for thirty (30) days.

EPA may withdraw from or modify the proposed PPA should such comments disclose facts or considerations which indicate the proposed PPA is inappropriate, improper, or inadequate. Copies of the proposed settlement are available from: Ms. Paula V. Batchelor, U.S. Environmental Protection Agency, Region IV, Waste Management Division, 61 Forsyth Street, S.W., Atlanta, Georgia 30303, 404/562-8887.

Written comments may be submitted to Ms. Batchelor at the above address within 30 days of the date of publication.

Dated: February 15, 2001.
Franklin E. Hill,
Chief, Cercla Program Services Branch, Waste Management Division.

[FR Doc. 01-5568 Filed 3-6-01; 8:45 am]

BILLING CODE 6560-50-P